DEPARTMENT OF COMMERCE

National Oceanic and Atmospheric Administration

[RTID 0648-XE136]

Marine Mammals; File No. 27867

AGENCY: National Marine Fisheries Service (NMFS), National Oceanic and Atmospheric Administration (NOAA), Commerce.

ACTION: Notice; receipt of application.

SUMMARY: Notice is hereby given that the NMFS Southeast Fisheries Science Center, 75 Virginia Beach Drive, Miami, FL 33149 (Responsible Party: Mridula Srinivasan, Ph.D.), has applied in due form for a permit to conduct research on cetaceans, and import, export, and receive cetacean parts for scientific research.

DATES: Written comments must be received on or before August 23, 2024.

ADDRESSES: The application and related documents are available for review by selecting “Records Open for Public Comment” from the “Features” box on the Applications and Permits for Protected Species home page, https://apps.nmfs.noaa.gov, and then selecting File No. 27867 from the list of available applications. These documents are also available upon written request via email to NMFS.Pr1Comments@noaa.gov.

Written comments on this application should be submitted via email to NMFS.Pr1Comments@noaa.gov. Please include File No. 27867 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Jennifer Skidmore, (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to conduct research in the western North Atlantic Ocean, Gulf of Mexico and Caribbean Sea. The objectives are to study cetacean stock structure, geographic range, population size, habitat, movement, vocalizations, reproduction, health status, and behavior. Up to 33 species of cetaceans may be targeted including the following ESA-listed species: blue (Balaenoptera musculus), fin (B. physalus), North Atlantic right (Eubalaena glacialis), Rice's (B. ricei), sei (B. borealis), and sperm (Physeter macrocephalus) whales. Research may occur year-round during vessel or aircraft surveys, including unmanned aircraft systems, for counts, photography, video recording (above and underwater), photogrammetry, thermal imaging, observations, passive acoustics, biological sampling (sloughed skin, exhaled air, feces, and skin and blubber biopsy), and tagging (suction-cup, dart, and deep-implant). In addition, the applicant is requesting authority to receive, import, and export cetacean parts. See the application for complete numbers of animals requested by species, age-class, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 18, 2024.
Julia M. Harrison,
Chief, Permits and Conservation Division, Office of Protected Resources, National Marine Fisheries Service.

[FR Doc. 2024-16237 Filed 7-23-24; 8:45 am]

BILLING CODE 3510-22-P